DEPARTMENT OF TRANSPORTATION

Federal Aviation Administration

14 CFR Part 39

[Docket No. FAA-2007-27071; Directorate Identifier 2007-CE-004-AD]

RIN 2120-AA64

Airworthiness Directives; Raytheon Aircraft Company Models C90A, B200, B200C, B300, and B300C Airplanes

AGENCY: Federal Aviation Administration (FAA), Department of Transportation (DOT).

ACTION: Notice of proposed rulemaking (NPRM).

SUMMARY: We propose to supersede Airworthiness Directive (AD) 2006-23-02 which applies to certain Raytheon Aircraft Company (RAC) (formerly Beech) Models C90A, B200, B200C, B300, and B300C airplanes. AD 2006-23-02 currently requires you to inspect the flight controls for improper assembly or damage, and if any improperly assembled or damaged flight controls are found, take corrective action. Since we issued AD 2006-23-02, we have determined the need to add airplane serial numbers that were not previously included in the applicability. Consequently, this proposed AD would retain the actions of AD 2006-23-02 and add airplane serial numbers to the applicability. We are proposing this AD to detect and correct improperly assembled or damaged flight controls, which could result in an unsafe condition by reducing capabilities of the flight controls and lead to loss of control of the airplane.

DATES: We must receive comments on this proposed AD by May 11, 2007.

ADDRESSES: Use one of the following addresses to comment on this proposed AD:

• DOT Docket Web site: Go to http://dms.dot.gov and follow the instructions for sending your comments electronically.

• Government wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: http://www.regulations.gov. Follow the instructions for submitting comments.

For service information identified in this proposed AD, contact Raytheon Aircraft Company, P.O. Box 85, Wichita, Kansas 67201-0085; telephone: (800) 429-5372 or (316) 676-3140.

FOR FURTHER INFORMATION CONTACT: Chris B. Morgan, Aerospace Engineer, FAA, Wichita Aircraft Certification Office, 1801 Airport Road, Wichita, Kansas 67209; telephone: (316) 946-4154; fax: (316) 946-4107.

SUPPLEMENTARY INFORMATION:

Comments Invited

We invite you to send any written relevant data, views, or arguments regarding this proposed AD. Send your comments to an address listed under the ADDRESSES section. Include the docket number, “FAA-2007-27071; Directorate Identifier 2007-CE-004-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

A report from an FAA Manufacturing Inspection District Office that describes numerous nonconformities during the manufacture of RAC Models C90A, B200, B200C, B300, and B300C airplanes caused us to issue AD 2006-23-02, Amendment 39-14814 (71 FR 65390, November 8, 2006). AD 2006-23-02 currently requires that you inspect the flight controls for improper assembly or damage, and if any improperly assembled or damaged flight controls are found, take corrective action on certain RAC Models C90A, B200, B200C, B300, and B300C airplanes.

Since issuing AD 2006-23-02, we have determined the need to add airplane serial numbers that were not previously included in the applicability.

This condition, if not corrected, could result in an unsafe condition by reducing capabilities of the flight controls.

Relevant Service Information

We have reviewed:

—Raytheon Aircraft Company Mandatory Service Bulletin Number SB 27-3761, Issued: February 2006; and

—Raytheon Aircraft Company Mandatory Service Bulletin Number SB 27-3761, Issued: February 2006, Revised: December 2006. This revision adds additional serial numbers to the effectivity.

The service information describes procedures for inspecting the flight control systems to ensure conformity with type design and correct the unsafe condition.

FAA's Determination and Requirements of the Proposed AD

We are proposing this AD because we evaluated all information and determined the unsafe condition described previously is likely to exist or develop on other products of the same type design. This proposed AD would supersede AD 2006-23-02 with a new AD that would retain the actions of AD 2006-23-02 and add airplane serial numbers to the applicability. This proposed AD would require you to use the service information described previously to perform these actions.

Differences Between This Proposed AD and the Service Information

We are requiring all phases of the flight control system be inspected at one time. The service information as presented allows some sections of the system to go 800 hours time-in-service before they are scheduled for inspection. We feel this time is excessive to allow potential safety items and nonconformities to exist. We have determined that the proposed compliance time will not inadvertently ground the affected airplanes.

Costs of Compliance

We estimate that this proposed AD would affect 138 airplanes in the U.S. registry.

We estimate the following costs to do the proposed inspection:

Labor cost | Parts cost | Total cost per airplane | Total cost on U.S. operators
80 work-hours × $80 per hour = $6,400 | Not Applicable | $6,400 | $883,200

We have no way of determining the number of airplanes that may need any corrective action that would be required based on the results of the proposed inspection.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-23-02, Amendment 39-14814 (71 FR 76575, December 21, 2006), and adding the following new AD:

Raytheon Aircraft Company (Formerly Beech): Docket No. FAA-2007-27071; Directorate Identifier 2007-CE-004-AD.

Comments Due Date

(a) We must receive comments on this airworthiness directive (AD) action by May 11, 2007.

Affected ADs

(b) This AD supersedes AD 2006-23-02, Amendment 39-14814.

Applicability

(c) This AD applies to the following airplane models and serial numbers that are certificated in any category:

(1) Group 1 Airplanes (maintains the actions from AD 2006-23-02):

Model | Serial numbers
(i) C90A | LJ-1697 through LJ-1726, LJ-1728, LJ-1729, and LJ-1731 through LJ-1739
(ii) B200 | BB-1827 through BB-1912
(iii) B200C | BL-148 and BL-149
(iv) B300 | FL-379 through FL-423, FL-426, FL-428 through FL-450, and FL-452
(v) B300C | FM-11

(2) Group 2 Airplanes: Model C90A, serial numbers LJ-1741 through LJ-1743.

Unsafe Condition

(d) This AD results from our determination to add airplane serial numbers that were not previously included in the applicability. We are issuing this AD to detect and correct improperly assembled or damaged flight controls, which could result in an unsafe condition by reducing capabilities of the flight controls and lead to loss of control of the airplane.

Compliance

(e) To address this problem, you must do the following, unless already done:

Actions | Compliance | Procedures
(1) Inspect the entire flight control system for improper assembly and any damage | (i) For Group 1 Airplanes: At whichever of the following occurs first: (A) Within 100 hours time-in-service (TIS) after December 13, 2006 (the effective date of AD 2006-23-02); or (B) At the next annual inspection that occurs at least 30 days after December 13, 2006 (the effective date of AD 2006-23-02). | Follow Raytheon Aircraft Company Mandatory Service Bulletin Number SB 27-3761, Issued: February 2006; or Raytheon Aircraft Company Mandatory Service Bulletin Number SB 27-3761, Issued: February 2006, Revised: December 2006.
| (ii) For Group 2 Airplanes: At whichever of the following occurs first:
| (A) Within 100 hours TIS after the effective date of this AD; or
| (B) At the next annual inspection that occurs at least 30 days after the effective date of this AD.
(2) If you find any improperly assembled or damaged flight controls as a result of the inspection required by paragraph (e)(1) of this AD, take corrective action as specified in the service information | Before further flight after the inspection required by paragraph (e)(1) of this AD | Follow Raytheon Aircraft Company Mandatory Service Bulletin Number SB 27-3761, Issued: February 2006; or Raytheon Aircraft Company Mandatory Service Bulletin Number SB 27-3761, Issued: February 2006, Revised: December 2006.

Alternative Methods of Compliance (AMOCs)

(f) The Manager, Wichita Aircraft Certification Office (ACO), FAA, ATTN: Chris B. Morgan, Aerospace Engineer, FAA, Wichita ACO, 1801 Airport Road, Wichita, Kansas 67209; telephone: (316) 946-4154; fax: (316) 946-4107, has the authority to approve AMOCs for this AD, if requested using the procedures found in 14 CFR 39.19. Before using any approved AMOC on any airplane to which the AMOC applies, notify your appropriate principal inspector (PI) in the FAA Flight Standards District Office (FSDO), or lacking a PI, your local FSDO.

(g) AMOCs approved for AD 2006-23-02 are approved for this AD.

Related Information

(h) To get copies of the service information referenced in this AD, contact Raytheon Aircraft Company, P.O. Box 85, Wichita, Kansas 67201-0085; telephone: (800) 429-5372 or (316) 676-3140. To view the AD docket, go to the Docket Management Facility; U.S. Department of Transportation, 400 Seventh Street, SW., Nassif Building, Room PL-401, Washington, DC, or on the Internet at http://dms.dot.gov. The docket number is Docket No. FAA-2007-27071; Directorate Identifier 2007-CE-004-AD.

Issued in Kansas City, Missouri, on March 6, 2007.
Kim Smith,
Manager, Small Airplane Directorate, Aircraft Certification Service.

[FR Doc. E7-4404 Filed 3-9-07; 8:45 am]

BILLING CODE 4910-13-P